DEPARTMENT OF THE INTERIOR

National Park Service

[N6541; NPS-WASO-NAGPRA-NPS0041129; PPWOCRADN0-PCU00RP14.R50000]

Notice of Inventory Completion: William S. Webb Museum of Anthropology, University of Kentucky, Lexington, KY

AGENCY: National Park Service, Interior.

ACTION: Notice.

SUMMARY: In accordance with the Native American Graves Protection and Repatriation Act (NAGPRA), the the William S. Webb Museum of Anthropology, University of Kentucky (WSWM) has completed an inventory of human remains and associated funerary objects and has determined that there is a cultural affiliation between the human remains and associated funerary objects and Indian Tribes or Native Hawaiian organizations in this notice.

DATES: Repatriation of the human remains and associated funerary objects in this notice may occur on or after October 27, 2025.

ADDRESSES: Send written requests for repatriation of the human remains and associated funerary objects in this notice to Dr. Celise Chilcote-Fricker, William S. Webb Museum of Anthropology, University of Kentucky, 1020 Export Street, Lexington, KY 40504, email celise.fricker@uky.edu.

SUPPLEMENTARY INFORMATION: This notice is published as part of the National Park Service's administrative responsibilities under NAGPRA. The determinations in this notice are the sole responsibility of the WSWM, and additional information on the determinations in this notice, including the results of consultation, can be found in its inventory or related records. The National Park Service is not responsible for the determinations in this notice.

Abstract of Information Available

Human remains representing, at least, 155 individuals have been identified. The 76 associated funerary objects are 20 lots faunal, 11 lots lithic, six lots shell, one stone barrel-shaped bead, one bone tool, one crinoid disc bead, one dog burial, one drill, two flakers, 25 lithic projectile points, one modified faunal bone, one perforated awl, two pestles, and three scrapers. Site 15McL7, the Butterfield site, was excavated from March to April 1939 by University of Kentucky archaeologists under contract to the Works Progress Administration. No known hazardous substances are present.

Human remains representing, at least, 68 individuals have been identified. The 164 associated funerary objects are three lots ceramic, 25 lots charcoal, 39 lots faunal, 44 lots lithic, four lots shell, 39 lots soil samples, four bone awls, one fishhook, one flaker, two modified lithics, one projectile point/knife and one uniface. Site 15McL12, the Kirkland site, was excavated from September to November 1938 by University of Kentucky archaeologists under contract to the Works Progress Administration. No known hazardous substances are present.

Cultural Affiliation

Based on the information available and the results of consultation, cultural affiliation is clearly identified by the information available about the human remains and associated funerary objects described in this notice.

Determinations

The WSWM has determined that:

• The human remains described in this notice represent the physical remains of 223 individuals of Native American ancestry.

• The 240 objects described in this notice are reasonably believed to have been placed intentionally with or near individual human remains at the time of death or later as part of the death rite or ceremony.

• There is a connection between the human remains and associated funerary objects described in this notice and the Absentee-Shawnee Tribe of Indians of Oklahoma; Cherokee Nation; Eastern Band of Cherokee Indians; Eastern Shawnee Tribe of Oklahoma; Shawnee Tribe; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 27, 2025. If competing requests for repatriation are received, the WSWM must determine the most appropriate requestor prior to repatriation. Requests for joint repatriation of the human remains and associated funerary objects are considered a single request and not competing requests. The WSWM is responsible for sending a copy of this notice to the Indian Tribes and Native Hawaiian organizations identified in this notice and any other consulting parties.

Authority: Native American Graves Protection and Repatriation Act, 25 U.S.C. 3003, and the implementing regulations, 43 CFR 10.10.

Dated: September 11, 2025.
Melanie O'Brien,
Manager, National NAGPRA Program.

[FR Doc. 2025-18570 Filed 9-24-25; 8:45 am]

BILLING CODE 4312-52-P